DEPARTMENT OF TRANSPORTATION

Federal Aviation Administration

RTCA Special Committee 189/EUROCAE Working Group 53: Air Traffic Services (ATS) Safety and Interoperability Requirements

AGENCY: Federal Aviation Administration (FAA), DOT.

ACTION: Notice of RTCA Special Committee 189/EUROCAE Working Group 53 meeting.

SUMMARY: The FAA is issuing this notice to advise the public of a meeting of RTCA Special Committee 189/EUROCAE Working Group 53: Air Traffic Services (ATS) Safety and Interoperability Requirements.

DATES: The meeting will be held July 16-20, 2001 starting at 9 a.m.

ADDRESSES: The meeting will be held at EUROCAE, 17, Rue Hamelin, 75116, Paris, France.

FOR FURTHER INFORMATION CONTACT: (1) RTCA Secretariat, 1140 Connecticut Avenue, NW., Washington, DC, 20036; telephone (202) 833-9339; fax (202) 833-9434; web site http://www.rtca.org; (2) Mr. G. Sainthuile, France; telephone 01 45 05 72 27; fax 01 45 05 72 30; email: gerard.sainthuile@eurocae.com.

SUPPLEMENTARY INFORMATION: Pursuant to section 10(a)(2) of the Federal Advisory Committee Act (P.L. 92-463, 5 U.S.C., Appendix 2), notice is hereby given for a Special Committee 189/EUROCAE Working Group 53 meeting. The agenda will include:

July 16

• Plenary Session (Welcome and Introductory Remarks, Review/Approval of Meeting Agenda, Review/Approval of Meeting Minutes)

• Sub-group and related reports; Position papers planned for plenary agreement; SC-189/WG-53 co-chair progress report

July 17-19

• PUB, Publications Integration Sub-group and Chair meetings

• INTEROP, Interoperability sub-group

• ICSPR, Initial Continental Safety and Performance Requirements Sub-group

• IOSPR, Initial Oceanic Safety and Performance Requirements Sub-group

July 20

• Plenary Session (Welcome and Introductory Remarks, Review/Approval of Meeting Agenda, Review/Approval of Preliminary Meeting Minutes)

• Sub-group and related reports; Position papers planned for plenary agreement; SC-189/WG-53 co-chair progress report and wrap-up

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on June 4, 2001.
Jane P. Caldwell,
Program Director, System Engineering Resource Management.

[FR Doc. 01-15488 Filed 6-19-01; 8:45 am]

BILLING CODE 4910-13-M